DEPARTMENT OF HEALTH AND HUMAN SERVICES

National Institutes of Health

Center for Scientific Review; Amended Notice of Meeting

Notice is hereby given of a change in the meeting of the Center for Scientific Review Special Emphasis Panel, September 26, 2000, 12:30 p.m. to September 26, 2000 2:30 p.m., NIH, Rockledge 2, Bethesda, MD 20892 which was published in the Federal Register on September 21, 2000, 65 FR 57201-57202.

The meeting will be held October 24, 2000, from 11 a.m. to 12:30 p.m. The location remains the same. The meeting is closed to the public.

Dated: October 6, 2000.
LaVerne Y. Stringfield,
Director, Office of Federal Advisory Committee Policy.

[FR Doc. 00-26577 Filed 10-16-00; 8:45 am]

BILLING CODE 4140-01-M